DEPARTMENT OF LABOR

Employment and Training Administration

[TA-W-62,849]

Newpage Corporation, Formerly Known as Stora Enso North America; Stamford, Connecticut; Including Employees of Newpage Corporation, Formerly Known as Stora Enso North America, Stamford, Connecticut; Amended Certification Regarding Eligibility To Apply for Worker Adjustment Assistance and Alternative Trade Adjustment Assistance; Working at Various Locations in the Following States

TA-W-62,849A; NORTH CAROLINA

TA-W-62,849B; CALIFORNIA

TA-W-62,849C; GEORGIA

TA-W-62,849D; ILLINOIS

TA-W-62,849E; MICHIGAN

TA-W-62,849F; MINNESOTA

TA-W-62,849G; NEW YORK

TA-W-62,849H; OHIO

TA-W-62,849I; PENNSYLVANIA

TA-W-62,849J; TEXAS

In accordance with Section 223 of the Trade Act of 1974 (19 U.S.C. 2273), and Section 246 of the Trade Act of 1974 (26 U.S.C. 2813), as amended, the Department of Labor issued a Certification Regarding Eligibility to Apply for Worker Adjustment Assistance and Alternative Trade Adjustment Assistance on July 21, 2008, applicable to workers of NewPage Corporation, formerly known as Stora Enso North America, Stamford, Connecticut. The notice was published in the Federal Register on August 12, 2008 (73 FR 46923).

At the request of a company official, the Department reviewed the certification for workers of the subject firm.

New information provided shows that worker separations have occurred involving employees of the Stamford, Connecticut facility of NewPage Corporation, formerly known as Stora Enso North America working out of various locations in the following states: North Carolina, California, Georgia, Illinois, Michigan, Minnesota, New York, Ohio, Pennsylvania and Texas. These employees provided sales, accounting and managerial function support services for the production of coated and uncoated paper by the subject firm.

Based on these findings, the Department is amending this certification to include employees of the Stamford, Connecticut facility of NewPage Corporation, formerly known as Stora Enso North America working out of various locations in the above mentioned states.

The intent of the Department's certification is to include all workers of NewPage Corporation, formerly known as Stora Enso North America, Stamford, Connecticut, who were adversely affected by increased imports of coated and uncoated paper.

The amended notice applicable to TA-W-62,849 is hereby issued as follows:

All workers of NewPage Corporation, formerly known as Stora Enso North America, Stamford, Connecticut (TA-W-62,849), including employees of NewPage Corporation, formerly known as Stora Enso North America, Stamford, Connecticut located at various locations in the following states: North Carolina (TA-W-62,849A), California (TA-W-62,849B), Georgia (TA-W-62,849C), Illinois (TA-W-62,849D), Michigan (TA-W-62,849E), Minnesota (TA-W-62,849F), New York (TA-W-62,849G), Ohio (TA-W-62,849H), Pennsylvania (TA-W-62,849I, and Texas (TA-W-62,849J), who became totally or partially separated from employment on or after February 13, 2007, through July 21, 2010, are eligible to apply for adjustment assistance under Section 223 of the Trade Act of 1974, and are also eligible to apply for alternative trade adjustment assistance under Section 246 of the Trade Act of 1974.

Signed at Washington, DC, this 2nd day of October 2008.
Linda G. Poole,
Certifying Officer, Division of Trade Adjustment Assistance.

[FR Doc. E8-24124 Filed 10-9-08; 8:45 am]

BILLING CODE 4510-FN-P